DEPARTMENT OF COMMERCE

National Oceanic and Atmospheric Administration

[I.D. 091703A]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting to address Snapper Grouper Amendments 13A and 13B. As part of this meeting, a public comment period will be held regarding Snapper Grouper Amendment 13A addressing the Oculina Experimental Closed Area. There will also be a full Council Session. This rescheduled Council meeting is being held in lieu of the regularly scheduled September Council meeting that was cancelled due to Hurricane Isabel.

DATES: The meeting will be held in October 2003. See SUPPLEMENTARY INFORMATION for specific dates and times.

ADDRESSES: The meeting will be held at the Town and Country Inn, 2008 Savannah Highway, Charleston, SC, 29407. Telephone: 1-800- 334-6660 or 843-571-1000.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866-SAFMC-10; fax: 843-769-4520; e-mail: kim.iverson@safmc.net.

SUPPLEMENTARY INFORMATION:

Meeting Dates

1. Full Council: October 6, 2003, 1:30 p.m.-5 p.m

From 1:30 p.m.-1:45 p.m., the Council will have a Call to Order, introductions and roll call, adoption of the agenda, and approval of the June 2003 meeting minutes.

From 1:45 p.m.-2:15 p.m., the Council will conduct an election for Chairman and Vice-Chairman and have a presentation of awards.

From 2:15 p.m.-5 p.m., the Council will be discussing issues relevant to Amendment 13A to the Snapper Grouper Fishery Management Plan (FMP). Beginning at 2:20 p.m., the Council will accept public comment on Snapper Grouper Amendment 13A. Following the public comment period, the Council will receive a summary report on recent changes and an overview of the final version of Amendment 13A, review the proposed rule and take action to approve Amendment 13A to the Snapper Grouper FMP for submission to the Secretary of Commerce.

The full Council will also receive a report on the Southeastern Data, Assessment and Review (SEDAR) process for yellowtail snapper and goliath grouper, and an update on the overall SEDAR process. The Council will take action to approve incorporating SEDAR into the Council's advisory panel process.

2. Full Council: October 7, 2003, 8:30 a.m.-5 p.m

The Council will receive an overview of Amendment 13B to the Snapper Grouper Fishery Management Plan and provide direction to staff regarding various options for the draft document. The schedule regarding the development of Amendment 13B will also be discussed.

3. Full Council: October 8, 2003, 8:30 a.m.-12 noon

From 8:30 a.m.-11 a.m., the Council will continue its review and discussion of Amendment 13B to the Snapper Grouper FMP and provide direction to staff regarding the options for the Amendment. Further discussion will be held regarding scheduling for the document development.

From 11 a.m.-11:30 a.m., the Council will hear status reports from NOAA Fisheries (National Marine Fisheries Service) regarding the Sargassum FMP final rule and the Dolphin Wahoo FMP.

From 11:30 a.m.-12 noon, the Council will discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accomodations

These meetings are physically accessible to people with disabilities. Requests for sign language interpretation or other auxiliary aids should be directed to the Council office (see ADDRESSES) by October 3 , 2003.

Dated: September 17, 2003.
Bruce C. Morehead,
Acting Director, Office of Sustainable Fisheries, National Marine Fisheries Service.

[FR Doc. 03-24116 Filed 9-18-03; 12:01 pm]

BILLING CODE 3510-22-S